DEPARTMENT OF HEALTH AND HUMAN SERVICES

National Institutes of Health

Eunice Kennedy Shriver National Institute of Child Health & Human Development Amended Notice of Meeting

Notice is hereby given of a change in the meeting of the National Institute of Child Health and Human Development Special Emphasis Panel, March 24, 2014, 10:00 a.m. to March 24, 2014, 11:00 a.m., National Institutes of Health, 6100 Executive Boulevard, Rockville, MD 20852 which was published in the Federal Register on March 20, 2014, 79 FR 15596.

The meeting notice is amended to change the date of the meeting from March 24, 2014 to April 10, 2014. The meeting is closed to the public.

Dated: March 21, 2014.
Michelle Trout,
Program Analyst, Office of Federal Advisory Committee Policy.

[FR Doc. 2014-06740 Filed 3-26-14; 8:45 am]

BILLING CODE 4140-01-P